DEPARTMENT OF THE INTERIOR

Bureau of Reclamation

Colorado River Interim Surplus Criteria

AGENCY: Bureau of Reclamation, Department of the Interior.

ACTION: Notice of availability of a draft environmental impact statement and public hearings for the proposed adoption of Colorado River Interim Surplus Criteria: INT-DES 00-25.

SUMMARY: Pursuant to Section 102(2)(C) of the National Environmental Policy Act (NEPA) of 1969, as amended, and the Council on Environmental Quality's Regulations for Implementing the Procedural Provisions of NEPA, the Bureau of Reclamation (Reclamation), has issued a Draft Environmental Impact Statement (DEIS) on the proposed adoption of specific criteria under which surplus water conditions may be determined in the Lower Colorado River Basin during the next 15 years. Cooperating agencies are the National Park Service and the International Boundary and Water Commission, United States Section. Information on public hearings may be found below in the DATES section.

ADDRESSES: Send comments on the DEIS to Ms. Jayne Harkins, Attention BCOO-4600, PO Box 61470, Boulder City, Nevada, 89006-1470, or fax comments to Ms. Harkins at (702) 293-8042. Comments must be received no later than September 8, 2000.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

DATES: Comments on this DEIS must be received no later than September 8, 2000.

Public hearings will be held to receive written or verbal comments on the DEIS from interested organizations and individuals on the environmental impacts of the proposal. The hearings will be held at the following times and locations:

• August 3, Meeting Room 1 on Level 3, Terminal 4, Phoenix Sky Harbor International Airport, Phoenix, Arizona, 7 p.m.

• August 8, Big Bear Room, Doubletree Hotel, 222 N. Vineyard Ave., Ontario, CA, 7 p.m.

• August 10, Jazz Room, Salt Lake City International Airport, 765 Terminal Drive, Salt Lake City, Utah, 7 p.m.

• August 15, Comfort Dental Conference Room, Las Vegas Chamber of Commerce, 3720 Howard Hughes Parkway, Las Vegas, NV, 7 p.m.

In addition to the public hearings, a separate hydrologic modeling meeting will be held on the same day as the public hearing in Las Vegas, NV. Reclamation will provide detailed assumptions and respond to questions regarding the model runs, use schedules, and post-processing analysis that was completed for this DEIS. The time and location for this technical meeting is as follows:

• August 15, Comfort Dental Conference Room, Las Vegas Chamber of Commerce, 3720 Howard Hughes Parkway, Las Vegas, NV, 9 a.m. to 5 p.m.

The hearings and the hydrologic modeling meeting will accommodate those with hearing impairments or other special requirements upon request by calling Janet Steele at (702) 293-8551 at least 48 hours prior to the hearing.

The DEIS is available for viewing on the Internet at http://www.lc.usbr.gov and http://www.uc.usbr.gov. Copies of the DEIS, in the form of a printed document or on compact disk, are available upon written request to the following address: Ms. Janet Steele, Attention BCOO-4601, PO Box 61470, Boulder City, Nevada 89006-1470, Telephone: (702) 293-8785, or by fax at (702) 293-8042.

See SUPPLEMENTARY INFORMATION section for a list of libraries where the DEIS is available for public inspection and review.

FOR FURTHER INFORMATION CONTACT: For additional information, contact Ms. Jayne Harkins at the above address or telephone Ms. Harkins at (702) 293-8785.

SUPPLEMENTARY INFORMATION: The Secretary of the Interior (Secretary) currently manages the lower Colorado River system in accordance with federal law (including the provisions of the 1964 U.S. Supreme Court decree, as supplemented, in Arizona v. California (the Decree)), the Colorado River Basin Project Act of 1968 (CRBPA) and Long Range Operating Criteria (LROC) pursuant to the CRBPA. Within this legal framework, the Secretary makes annual determinations regarding the availability of surplus water from Lake Mead by considering various factors, including the amount of water in storage and predictions for natural runoff. The Decree provides that if there exists sufficient water available in a single year for release from Lake Mead to satisfy annual consumptive use in the states of Arizona, California, and Nevada in excess of 7.5 million-acre feet, such water may be determined by the Secretary to be made available as surplus water.

The purpose of and need for establishing interim surplus criteria is to assist the Secretary in making annual determinations of surplus conditions, and will afford entities that have contracted for surplus water a greater degree of predictability with respect to the annual existence of surplus water available for diversion. This greater predictability would assist these entities in the management of their water resources.

The DEIS presents four possible alternatives for implementation, plus a “No Action Alternative.” The DEIS does not include a preferred alternative. The interim surplus criteria alternatives have been formulated to be consistent with applicable federal law and the LROC, described above.

The four potential action alternatives are: a “Flood Control Alternative,” which would provide surplus water only when flood control releases from Lake Mead are needed, based on the current criteria for making such releases; the “Six States Alternative” and “California Alternative,” both of which specify various Lake Mead water surface elevations to be used as “triggers” to indicate when surplus conditions exist; and the “Shortage Protection Alternative,” which would permit surplus conditions to be determined above a specific elevation positioned to ensure enough water remains in Lake Mead to provide a one-year water supply to Arizona, California, Nevada, and Mexico, and to protect against dropping the lake's water level below a specified elevation.

Libraries Where the Draft EIS is Available for Public Inspection and Review:

• Department of the Interior, Natural Resources Library, 1849 C Street, NW, Washington, DC 20240.

• Lower Colorado Regional Office, PO Box 61470, Boulder City, Nevada 89006-1470.

• Phoenix Area Office, Concorde Commerce Center, 2222 West Dunlap Ave., Suite 100, Phoenix, Arizona 85069-1169.

• Yuma Area Office, 7301 Calle Aqua Salada, Yuma, Arizona, 85366-7504.

• Upper Colorado Regional Office, 125 South State St., Room 6107, Salt Lake City, Utah 84138-1102.

• Boulder City Library, 813 Arizona, Boulder City, NV 89005. Henderson District Public Library, 280 South Water St., Henderson, NV 89015.

• Los Angeles Central Library, 630 W 5th St. Los Angeles, CA 90071.

• San Diego Central Library, 820 E St., San Diego, CA 92101.

• Salt Lake City Public Library, 209 E 500 S., Salt Lake City, UT 84111.

• Albuquerque Public Library, 501 Copper Ave. NW, Albuquerque, NM 87102.

• Denver Public Library, 10 W 14th Ave. Pkwy, Denver, CO 80204.

• Laramie County Library, 2800 Central Ave., Cheyenne, WY 82001.

• Phoenix Public Library (Burton Barr Central), 1221 N. Central Ave., AZ 85004.

• Government Reference Library, City Hall, 9th Floor, Tucson, AZ 85701.

• Mohave County Library, 1170 Hancock Rd., Bullhead City, AZ 86442.

• San Bernardino County Library, 1111 Bailey Ave., Needles, CA 92363.

• Lake Havasu City Library, 1787 McCulloch Blvd. North, Lake Havasu City, AZ, 86403.

• Parker Public Library, 1001 South Navajo Ave., Parker, AZ 85344.

• Palo Verde Valley Library, 125 W. Chanslor Way, Blythe, CA 92225.

• Yuma County Library, 350 S. 3rd Ave., Yuma, AZ 85364.

Dated: June 30, 2000.
Willie R. Taylor,
Director, Office of Environmental Policy and Compliance, Department of the Interior.

[FR Doc. 00-17194 Filed 7-6-00; 8:45 am]

BILLING CODE 4310-MN-P